DEPARTMENT OF THE TREASURY

Submission to OMB for Review; Comment request

September 10, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Correction

This is a correction to FR Doc. 02-12722, Filed 05-20-02; 8:45 a.m., for a Department of the Treasury, Internal Revenue Service information collection. The corrected information is as follows:

OMB Number: 1545-1781.

Title: Heavy Highway Vehicle Use Tax Return for Filers With a Single Vehicle.

Corrected Description: Form 2290-EZ may be used instead of Form 2290 to pay the tax due on a highway motor vehicle with a taxable gross weight of more than 75,000 pounds.

Lois K. Holland,
Department Reports Management Officer.

[FR Doc. 02-23673 Filed 9-17-02; 8:45 am]

BILLING CODE 4830-01-M